DEPARTMENT OF HEALTH AND HUMAN SERVICES

National Institutes of Health

Submission for OMB Review; 30-Day Comment Request Electronic Individual Development Plan (eIDP) (National Eye Institute); Correction

AGENCY: National Institutes of Health, HHS.

ACTION: Notice; correction.

SUMMARY: The Department of Health and Human Services, National Institutes of Health published a Notice in the Federal Register on August 26, 2021. That Notice requires a correction in the SUPPLEMENTARY INFORMATION section.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: To obtain a copy of the data collection plans and instruments, submit comments in writing, or request more information on the proposed project, contact: Dr. Cesar E. Perez-Gonzalez, Training Director, Office of the Scientific Director, National Eye Institute, NIH, Building 31, Room 6A22, MSC 0250, Bethesda, Maryland 20892 or call non-toll-free number (301) 451- 6763 or Email your request, including your address to: cesarp@nei.nih.gov. Formal requests for additional plans and instruments must be requested in writing.

SUPPLEMENTARY INFORMATION:

Correction

In the Federal Register of August 26, 2021, in FR Doc. 2021-18393, on page 47652, as found within the Supplementary Information section, within the Estimated Annualized Burden Hours table for the Number of Responses per Respondent column total currently reads “150” and is corrected to read: “450”.

Daniel R. Hernandez,
NIH Federal Register Certifying Official, National Institutes of Health.

[FR Doc. 2021-18812 Filed 8-31-21; 8:45 am]

BILLING CODE 4140-01-P